Proclamation 10182 of April 16, 2021

National Crime Victims' Rights Week, 2021

By the President of the United States of America

A Proclamation

Millions of people in the United States are victims of crime every year. Some endure horrific acts of violence, some have personal possessions damaged or stolen, and others are defrauded or exploited financially. Whatever the crime, many victims lose something that can never be fully recovered: a sense of trust and safety. Yet we find inspiration and hope in their stories of triumph over adversity and resilience in the wake of tragedy. During this 40th National Crime Victims' Rights Week, we support crime victims throughout the United States and the many dedicated people who serve them.

The Biden-Harris Administration recognizes that true justice requires that victims get the support and assistance they need. Today, victims have access to quality services in their communities through the more than 7,000 local programs funded by the Federal Crime Victims Fund, as well as from other sources of Federal funding, including supplemental funding for victim services in the American Rescue Plan. In spite of this network of support, persistent barriers still prevent many victims from obtaining the support and services they need and the justice they deserve. Fewer than half of violent victimizations are reported to police, and research shows that even fewer reports of rapes or sexual assaults are brought to the attention of law enforcement. There are a variety of reasons why many victims of crime are less likely to report a crime, including fear of negative interactions with law enforcement or the criminal justice system, which disproportionately impacts victims from communities of color. Together, we must commit to the accountability and reform necessary to build trust, increase access to services, and improve public safety.

We must also listen to the voices of those who have experienced gun violence. Gun violence not only impacts its victims, but also their families, friends, colleagues, first responders, and local communities. These brave voices—along with the majority of gun-owners who support commonsense measures to keep our communities safe—are speaking up and speaking out for public policy that will put a stop to the violence. My Administration is committed to doing everything we can to end the epidemic of gun violence.

Supporting crime victims is part of a larger effort to advance equity and fairness in our society. The Office for Victims of Crime at the Department of Justice is investing in efforts to improve access to services and safety for victims and communities that have been historically marginalized and underserved, as well as support community initiatives to prevent violence. My Administration is taking action to address the surge in anti-Asian violence and harassment, including efforts to prevent hate crimes and build trust with law enforcement. My Administration is also working closely with Tribal governments to help victims in American Indian and Alaska Native communities, and supporting community-driven efforts to reach victims of hate crimes.

Every crime victim deserves justice and the assurance that their safety, wellbeing, and welfare will be protected. We must work together to prevent crimes and ensure that all victims have a place to turn, and the support they need to recover.

NOW, THEREFORE, I, JOSEPH R. BIDEN JR., President of the United States of America, by virtue of the authority vested in me by the Constitution and the laws of the United States, do hereby proclaim April 18 through April 24, 2021, as National Crime Victims' Rights Week. I call upon all Americans to observe this week by participating in events that raise awareness of victims' rights and services and by volunteering to serve victims in need.

IN WITNESS WHEREOF, I have hereunto set my hand this sixteenth day of April, in the year of our Lord two thousand twenty-one, and of the Independence of the United States of America the two hundred and forty-fifth.

[FR Doc. 2021-08414

Filed 4-20-21; 8:45 am]

Billing code 3295-F1-P